DEPARTMENT OF COMMERCE

International Trade Administration

[A-533-887]

Carbon and Alloy Steel Threaded Rod From India: Final Results of Antidumping Duty Administrative Review, 2021-2022

AGENCY: Enforcement and Compliance, International Trade Administration, Department of Commerce.

SUMMARY: The U.S. Department of Commerce (Commerce) determines that carbon and alloy steel threaded rod (steel threaded rod) from India was sold in the United States at below normal value during the period of review (POR), April 1, 2021, through March 31, 2022. Commerce also determines that one mandatory respondent did not make sales of subject merchandise at below normal value during the POR.

DATES: Applicable November 2, 2023.

FOR FURTHER INFORMATION CONTACT: Nicolas Mayora or Samuel Frost, AD/CVD Operations, Office V, Enforcement and Compliance, International Trade Administration, U.S. Department of Commerce, 1401 Constitution Avenue NW, Washington, DC 20230; telephone: (202) 482-3053 or (202) 482-8180, respectively.

SUPPLEMENTARY INFORMATION:

Background

On May 4, 2023, Commerce published the Preliminary Results of this administrative review and invited parties to comment on the Preliminary Results.¹ This administrative review covers 114 companies.² Commerce selected Kanika Exports (Kanika) and R K Fasteners (India) (RKF) as the two respondents for individual examination.³ On August 17, 2023, Commerce extended the deadline for the final results of this review until October 31, 2023.⁴ For a complete description of the events that followed the Preliminary Results, see the Issues and Decision Memorandum.⁵

¹ See Carbon and Alloy Steel Threaded Rod from India: Preliminary Results of Antidumping Duty Administrative Review, 2021-2022, 88 FR 28502 (May 4, 2023) (Preliminary Results), and accompanying Preliminary Decision Memorandum.

² See Initiation of Antidumping and Countervailing Duty Administrative Reviews, 87 FR 35165 (June 9, 2022); see also Initiation of Antidumping and Countervailing Duty Administrative Reviews, 87 FR 48459 (August 9, 2022) (correcting the prior initiation notice that inadvertently omitted one company).

³ See Memorandum, “Respondent Selection,” dated August 2, 2022.

⁴ See Memorandum, “Extension of Deadline for Final Results of Antidumping Duty Administrative Review: 2021-2022,” dated August 17, 2023.

⁵ See Memorandum, “Issues and Decision Memorandum for the Final Results of the Antidumping Duty Administrative Review of Carbon and Alloy Steel Threaded Rod from India; 2021-2022,” dated concurrently with, and hereby adopted by, this notice (Issues and Decision Memorandum).

Commerce conducted this administrative review in accordance with section 751(a) of the Tariff Act of 1930, as amended (the Act).

Scope of the Order ⁶

⁶ See Carbon and Alloy Steel Threaded Rod from India: Amended Final Determination of Sales at Less Than Fair Value and Antidumping Duty Order, 85 FR 19925 (April 9, 2020) (Order).

The merchandise covered by the scope of this Order is carbon and alloy steel threaded rod from India. A complete description of the scope of the Order is provided in the Issues and Decision Memorandum.⁷

⁷ See Issues and Decision Memorandum at “Scope of the Order.”

Analysis of Comments Received

All issues raised in the case and rebuttal briefs that were submitted by interested parties in this review are addressed in the Issues and Decision Memorandum. A list of the issues is attached to this notice at Appendix I. The Issues and Decision Memorandum is a public document and is made available to the public via Enforcement and Compliance's Antidumping and Countervailing Duty Centralized Electronic Service System (ACCESS). ACCESS is available to registered users at http://access.trade.gov. In addition, a complete version of the Issues and Decision Memorandum is available at https://access.trade.gov/public/FRNoticesListLayout.aspx.

Changes Since the Preliminary Results

Based on our analysis of the comments received, we made certain changes to the margin calculations for Kanika in these final results. We did not make any change to RKF's margin calculations. For a discussion of these changes, see the “Discussion of the Issues” section of the Issues and Decision Memorandum.

Rate for Non-Examined Companies

The Act and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero and de minimis margins, and any margins determined entirely {on the basis of facts available}.”

Where the dumping margin for individually examined respondents are all zero, de minimis, or based entirely on facts available, section 735(c)(5)(B) of the Act provides that Commerce may use “any reasonable method to establish the estimated all-others rate for exporters and producers not individually investigated, including averaging the estimated weighted average dumping margins determined for the exporters and producers individually investigated.”

In this review, we have calculated a weighted-average dumping margins of 2.37 percent for RKF and zero percent for Kanika. Therefore, in accordance with section 735(c)(5)(A) of the Act, we are applying RKF's weighted average dumping margin of 2.37 percent to the non-examined companies (see Appendix II for a full list of these companies), because this is the only rate that is not zero, de minimis, or based entirely on facts available.

Final Results of the Review

Commerce determines that the following estimated weighted-average dumping margins exist during the period April 1, 2021, through March 31, 2022:

Exporter/producer | Weighted- average dumping margin (percent)
Kanika Exports | 0.00
R K Fasteners (India) | 2.37
Companies Not Selected for Individual Review ⁸ | 2.37

Disclosure

Commerce intends to disclose to interested parties the calculations performed for these final results of review within five days of publication of this notice in the Federal Register, in accordance with 19 CFR 351.224(b).

⁸ See Appendix II for a full list of these companies.

Assessment Rates

Pursuant to section 751(a)(2)(C) of the Act and 19 CFR 351.212(b)(1), Commerce shall determine, and U.S. Customs and Border Protection (CBP) shall assess, antidumping duties on all appropriate entries of subject merchandise in accordance with the final results this review.⁹

⁹ See 19 CFR 351.212(b)(1).

For RKF, we calculated importer-specific assessment rates based on the ratio of the total amount of dumping calculated for the importer's examined sales to the total entered value of those same sales in accordance with 19 CFR 351.212(b)(1). Where an importer-specific assessment rate is either zero or de minimis (i.e., less than 0.5 percent), the entries by that importer will be liquidated without regard to antidumping duties. Because the weighted-average dumping margin for Kanika has been determined to be zero percent, we intend to instruct CBP to liquidate Kanika's entries without regard to antidumping duties in accordance with 19 CFR 351.106(c)(2).

In accordance with Commerce's “automatic assessment” practice, for entries of subject merchandise during the POR produced by Kanika or RKF for which these companies did not know that the merchandise was destined for the United States, we will instruct CBP to liquidate those entries at the all-others rate established in the original less-than-fair-value (LTFV) investigation of 0.00 percent,¹⁰ if there is no rate for the intermediate company(ies) involved in the transaction.¹¹

¹⁰ See Order, 85 FR at 19926.

¹¹ See Antidumping and Countervailing Duty Proceedings: Assessment of Antidumping Duties, 68 FR 23954 (May 6, 2003).

For the companies that were not selected for individual examination, we will instruct CBP to liquidate entries at the rate established in these final results of review.

We intend to issue instructions to CBP no earlier than 35 days after the publication date of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of these final results of review in the Federal Register, as provided by section 751(a)(2)(C) of the Act: (1) the cash deposit rate for the companies listed in these final results will be equal to the weighted-average dumping margin established in the final results of this administrative review; (2) for merchandise exported by producers or exporters not covered in this review but covered in a prior segment of the proceeding, the cash deposit rate will continue to be the company-specific rate published for the most recently-completed segment of this proceeding in which they were reviewed; (3) if the exporter is not a firm covered in this review, a prior review, or the original investigation but the producer is, then the cash deposit rate will be the rate established for the most recently completed segment of this proceeding for the producer of the merchandise; (4) the cash deposit rate for all other producers or exporters will continue to be 0.00 percent, the all-others rate established in the LTFV investigation, adjusted for the export-subsidy rate in the companion countervailing duty investigation.¹² These cash deposit requirements, when imposed, shall remain in effect until further notice.

¹² See Order, 85 FR at 19926.

Notification to Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under the APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

This notice is being issued and published in accordance with sections 751(a)(1) and 777(i)(1) of the Act, and 19 CFR 351.213(h) and 351.221(b)(5).

Dated: October 26, 2023
Lisa W. Wang,
Assistant Secretary for Enforcement and Compliance.

Appendix I

List of Topics Discussed in the Issues and Decision Memorandum

I. Summary

II. Background

III. Scope of the Order

IV. Changes Since the Preliminary Results

V. Discussion of the Issues

Comment 1: Whether Kanika's Allocation of Zinc Coating Costs is Inaccurate

Comment 2: Whether Kanika's Allocation of Variable Overhead Costs is Inaccurate

Comment 3: Whether Kanika's Allocation of Fixed Overhead is Inaccurate

Comment 4: Whether Kanika Significantly Manipulated Its Costs

Comment 5: Whether Commerce Should Apply Total Adverse Facts Available (AFA) to Kanika

Comment 6: Whether Kanika Misreported Its Sales Information

Comment 7: Whether RKF Under-Reported Its Freight Costs

Comment 8: Whether Commerce Should Reject RKF's Claim for Freight Revenue

VI. Recommendation

Appendix II

List of Companies Not Individually Examined

1. A H Enterprises

2. Aadi Shree Fastener Industries

3. Aanjaney Micro Engy Pvt., Ltd.

4. Accurate Steel Forgings (I) Ltd.

5. Alps Industries Ltd.

6. Apex Thermocon Pvt., Ltd.

7. Ash Hammer Union

8. Astrotech Steels Pvt., Ltd.

9. Atlantic Container Line Pvt., Ltd.

10. Ats Exp. 07

11. Atz Shipping Trade & Transport Pvt.

12. BA Metal Processing

13. Babu Exports

14. Bee Dee Cycle Industries

15. Bhansali Inc.

16. Boston Exp. & Engineering Co.

17. C.H.Robinson International (India)

18. C.P.World Lines Pvt., Ltd.

19. Century Distribution Systems Inc.

20. Charu Enterprises

21. Chirag International

22. Daksh Fasteners

23. Dedicated Imp. & Exp. Co.

24. Dhiraj Alloy & Stainless Steel

25. Dsv Air and Sea Pvt., Ltd.

26. Eastman Industries Ltd.

27. Eos Precision

28. ESL Steel Ltd.

29. Everest Exp.

30. Everest Industrial Corporation

31. Farmparts Company

32. Fence Fixings

33. Fine Thread Form Industries

34. Galorekart Marketplace Pvt., Ltd.

35. Ganga Acrowools Ltd.

36. Ganpati Fastners Pvt., Ltd.

37. Gateway Engineering Solution

38. GDPA Fasteners

39. Gee Pee Overseas

40. Geodis India Pvt., Ltd. (Indel)

41. Goodgood Manufacturers

42. Idea Fasteners Pvt., Ltd.

43. Jindal Steel And Power Ltd.

44. JSW Steel Ltd.

45. Kanchan Trading Co.

46. Kanhaiya Lal Tandoor (P) Ltd.

47. Kapson India

48. Kapurthala Industrial Corporation

49. Karna International

50. Kei Industries Ltd.

51. King Exports

52. Kintetsu World Express In

53. Kova Fasteners Pvt., Ltd.

54. Linit Exp. Pvt., Ltd.

55. Mahajan Brothers

56. Maharaja International

57. Mangal Steel Enterprises Ltd.

58. Maya Enterprises

59. Meenakshi India, Ltd.

60. Metalink

61. MKA Engineers And Exporters Pvt., Ltd.

62. National Cutting Tools

63. Nishant Steel Industries

64. NJ Sourcing

65. Noahs Ark International Exp.

66. Nuovo Fastenings Pvt., Ltd.

67. Oia Global India Pvt., Ltd.

68. Otsusa India Pvt., Ltd.

69. Paloma Turning Co. Pvt., Ltd.

70. Patton International Ltd.

71. Perfect Tools & Forgings

72. Permali Wallace Pvt., Ltd.

73. Polycab India Ltd.

74. Pommada Hindustan Pvt., Ltd.

75. Poona Forge Pvt., Ltd.

76. Psl Pipe & Fittings Co.

77. R A Exp.

78. Raajratna Ventures Ltd.

79. Raashika Industries Pvt., Ltd.

80. Rajpan Group

81. Rambal Ltd.

82. Randack Fasteners India Pvt., Ltd.

83. Ratnveer Metals Ltd.

84. Rimjhim Ispat Ltd.

85. Rods & Fixing Fasteners

86. S K Overseas

87. S.M Forgings & Engineering

88. Sandip Brass Industries

89. Sandiya Exp. Pvt., Ltd.

90. Sansera Engineering Pvt., Ltd.

91. Shree Luxmi Fasteners

92. Silverline Metal Engineering Pvt. Lt

93. Singhania International Ltd.

94. Sri Satya Sai Enterprises

95. Steampulse Global Llp

96. Steel Authority Of India Ltd.

97. Suchi Fasteners Pvt., Ltd.

98. Supercon Metals Pvt., Ltd.

99. Tekstar Pvt., Ltd.

100. The Technocrats Co.

101. Tijiya Exp. Pvt., Ltd.

102. Tijiya Steel Pvt., Ltd.

103. Tong Heer Fasteners

104. Trans Tool Pvt., Ltd.

105. Universal Engineering and Fabricat

106. V.J Industries Pvt., Ltd.

107. Vidushi Wires Pvt., Ltd.

108. Vrl Automation

109. VV Marine Pvt., Ltd.

110. Yogendra International

111. Zenith Steel Pipes And Industries L

112. Zenith Precision Pvt., Ltd.

[FR Doc. 2023-24187 Filed 11-1-23; 8:45 am]

BILLING CODE 3510-DS-P